ENVIRONMENTAL PROTECTION AGENCY

[FRL-9489-1]

Proposed CERCLA Administrative Cost Recovery Settlement; Tracy Lead Battery Site, Tracy, MN

AGENCY: Environmental Protection Agency (EPA).

ACTION: Notice; request for public comment.

SUMMARY: In accordance with Section 122(I) of the Comprehensive Environmental Response, Compensation, and Liability Act, as amended (“CERCLA”), 42 U.S.C. 9622(I), notice is hereby given of a proposed administrative settlement for recovery of past response costs concerning the Tracy Lead Battery Site in Tracy, Minnesota with the following settling parties: Day Side Recycling Corporation, Bay Side Holding Corporation and Zenith Investment and Management Corporation. The settlement requires the settling parties to pay $45,300.00 to the Hazardous Substance Superfund. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Record Center, Room 714 U.S. EPA, 77 West Jackson Boulevard, Chicago, Illinois.

DATES: Comments must be submitted on or before December 9, 2011.

ADDRESSES: The proposed settlement is available for public inspection at the U.S. EPA Records Center, Room 714, 77 West Jackson Boulevard, Chicago, Illinois. A copy of the proposed settlement may be obtained from Associate Regional Counsel, Steven P. Kaiser, 77 West Jackson Boulevard, Chicago, Illinois 60604 whose telephone number is (312) 353-3804. Comments should reference the Tracy Lead Battery Site and EPA Docket No. CERCLA-05-2012-0001 and should be addressed to Steven P. Kaiser, 77 West Jackson Boulevard, Chicago, Illinois 60604.

FOR FURTHER INFORMATION CONTACT: Steven P. Kaiser, 77 West Jackson Boulevard, Chicago, Illinois 60604 whose telephone number is (312) 353-3804.

Dated: November 1, 2011.
Richard C. Karl,
Director, Superfund Division, Region 5.

[FR Doc. 2011-29062 Filed 11-8-11; 8:45 am]

BILLING CODE 6560-50-P